DEPARTMENT OF TRANSPORTATION

Federal Aviation Administration

14 CFR Part 39

[Docket No. 2001-NM-186-AD; Amendment 39-12666; AD 2002-04-09]

RIN 2120-AA64

Airworthiness Directives; BAE Systems (Operations) Limited Model BAe 146 Series Airplanes and Model Avro 146-RJ Series Airplanes

AGENCY: Federal Aviation Administration, DOT.

ACTION: Final rule.

SUMMARY: This amendment adopts a new airworthiness directive (AD), applicable to certain BAE Systems (Operations) Limited Model BAe 146 and Avro 146-RJ series airplanes, that requires modifying the engine start circuit. This action is necessary to prevent overheating of the soft start resistor of the engine start circuit, which could result in smoke and fumes in the cabin and consequent injury to passengers and crew. This action is intended to address the identified unsafe condition.

DATES: Effective April 5, 2002.

The incorporation by reference of certain publications listed in the regulations is approved by the Director of the Federal Register as of April 5, 2002.

ADDRESSES: The service information referenced in this AD may be obtained from British Aerospace Regional Aircraft American Support, 13850 Mclearen Road, Herndon, Virginia 20171. This information may be examined at the Federal Aviation Administration (FAA), Transport Airplane Directorate, Rules Docket, 1601 Lind Avenue, SW., Renton, Washington; or at the Office of the Federal Register, 800 North Capitol Street, NW., suite 700, Washington, DC.

FOR FURTHER INFORMATION CONTACT: Todd Thompson, Aerospace Engineer, International Branch, ANM-116, FAA, Transport Airplane Directorate, 1601 Lind Avenue, SW., Renton, Washington 98055-4056; telephone (425) 227-1175; fax (425) 227-1149.

SUPPLEMENTARY INFORMATION: A proposal to amend part 39 of the Federal Aviation Regulations (14 CFR part 39) to include an airworthiness directive (AD) that is applicable to certain BAE Systems (Operations) Limited Model BAe 146 and Avro 146-RJ series airplanes was published in the Federal Register on November 28, 2001 (66 FR 59390). That action proposed to require modifying the engine start circuit.

Comments

Interested persons have been afforded an opportunity to participate in the making of this amendment. No comments were submitted in response to the proposal or the FAA's determination of the cost to the public.

Conclusion

The FAA has determined that air safety and the public interest require the adoption of the rule as proposed.

Cost Impact

The FAA estimates that 65 Model BAe 146 and Avro 146-RJ series airplanes of U.S. registry will be affected by this AD, that it will take approximately 18 work hours per airplane to accomplish the required actions, and that the average labor rate is $60 per work hour. The cost for required parts will be approximately $7,300. Based on these figures, the cost impact of this AD on U.S. operators is estimated to be $544,700, or $8,380 per airplane.

The cost impact figure discussed above is based on assumptions that no operator has yet accomplished any of the requirements of this AD action, and that no operator would accomplish those actions in the future if this AD were not adopted. The cost impact figures discussed in AD rulemaking actions represent only the time necessary to perform the specific actions actually required by the AD. These figures typically do not include incidental costs, such as the time required to gain access and close up, planning time, or time necessitated by other administrative actions.

Regulatory Impact

The regulations adopted herein will not have a substantial direct effect on the States, on the relationship between the national Government and the States, or on the distribution of power and responsibilities among the various levels of government. Therefore, it is determined that this final rule does not have federalism implications under Executive Order 13132.

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

2002-04-09 BAE Systems (Operations) Limited (Formerly British Aerospace Regional Aircraft): Amendment 39-12666. Docket 2001-NM-186-AD.

Applicability: Model BAe 146 and Avro 146—RJ series airplanes, certificated in any category, that have been modified in accordance with BAE Systems Modification HCM00810A, HCM60031A, or HCM60033L.

Note 1: This AD applies to each airplane identified in the preceding applicability provision, regardless of whether it has been otherwise modified, altered, or repaired in the area subject to the requirements of this AD. For airplanes that have been modified, altered, or repaired so that the performance of the requirements of this AD is affected, the owner/operator must request approval for an alternative method of compliance in accordance with paragraph (b) of this AD. The request should include an assessment of the effect of the modification, alteration, or repair on the unsafe condition addressed by this AD; and, if the unsafe condition has not been eliminated, the request should include specific proposed actions to address it.

Compliance: Required as indicated, unless accomplished previously.

To prevent overheating of the soft start resistor of the engine start circuit, which could result in smoke and fumes in the cabin and consequent injury to passengers and crew, accomplish the following:

Modification

(a) Within 2 years after the effective date of this AD, modify the engine start circuit (including modifying the electrical busbar; installing new relays and relay mounting assembly, terminal junction module, and change-over contactor; and installing and rerouting certain wire assemblies) as specified by paragraph (a)(1), (a)(2), or (a)(3), as applicable, of this AD.

(1) For Model BAe 146 and Avro 146-RJ series airplanes on which BAE Systems Modification HCM00810A has been incorporated: Do the modification in accordance with BAE Systems (Operations) Limited Modification Service Bulletin SB.80-18-50293A, dated January 18, 2001; or SB.80-018-50293A, Revision 1, dated July 4, 2001.

(2) For Model BAe 146 series 100 airplanes on which BAE Systems Modification HCM60031A has been incorporated: Do the modification in accordance with BAE Systems (Operations) Limited Modification Service Bulletin SB.80-019-50293B, dated July 6, 2001.

(3) For Model BAe 146 series 200 airplanes on which BAE Systems Modification HCM60033L has been incorporated: Do the modification in accordance with BAE Systems (Operations) Limited Modification Service Bulletin SB.80-020-50293C, dated July 6, 2001.

Alternative Methods of Compliance

(b) An alternative method of compliance or adjustment of the compliance time that provides an acceptable level of safety may be used if approved by the Manager, International Branch, ANM-116, Transport Airplane Directorate, FAA. Operators shall submit their requests through an appropriate FAA Principal Maintenance Inspector, who may add comments and then send it to the Manager, International Branch, ANM-116.

Note 2: Information concerning the existence of approved alternative methods of compliance with this AD, if any, may be obtained from the International Branch, ANM-116.

Special Flight Permits

(c) Special flight permits may be issued in accordance with §§ 21.197 and 21.199 of the Federal Aviation Regulations (14 CFR 21.197 and 21.199) to operate the airplane to a location where the requirements of this AD can be accomplished.

Incorporation by Reference

(d) The modification shall be done in accordance with BAE Systems (Operations) Limited Modification Service Bulletin SB.80-18-50293A, dated January 18, 2001; BAE Systems (Operations) Limited Modification Service Bulletin SB.80-018-50293A, Revision 1, dated July 4, 2001; BAE Systems (Operations) Limited Modification Service Bulletin SB.80-019-50293B, dated July 6, 2001; or BAE Systems (Operations) Limited Modification Service Bulletin SB.80-020-50293C, dated July 6, 2001; as applicable. This incorporation by reference was approved by the Director of the Federal Register in accordance with 5 U.S.C. 552(a) and 1 CFR part 51. Copies may be obtained from British Aerospace Regional Aircraft American Support, 13850 Mclearen Road, Herndon, Virginia 20171. Copies may be inspected at the FAA, Transport Airplane Directorate, 1601 Lind Avenue, SW., Renton, Washington; or at the Office of the Federal Register, 800 North Capitol Street, NW., suite 700, Washington, DC.

Note 3: The subject of this AD is addressed in British airworthiness directive 003-01-2001.

Effective Date

(e) This amendment becomes effective on April 5, 2002.

Issued in Renton, Washington, on February 21, 2002.
Vi L. Lipski,
Manager, Transport Airplane Directorate, Aircraft Certification Service.

[FR Doc. 02-4718 Filed 2-28-02; 8:45 am]

BILLING CODE 4910-13-U